DEPARTMENT OF DEFENSE

Office of the Secretary

Defense Science Board

AGENCY: Department of Defense.

ACTION: Notice of Advisory Committee Meeting Date Change.

SUMMARY: On Friday, October 11, 2002 (67 FR 63388), the Department of Defense announced a closed meeting of the Defense Science Board Task Force on Discriminant Use of Force. The meeting previously scheduled for December 3-4, 2002, has been rescheduled, to December 11, 2002. The meeting will be held at SAIC, 4001 N. Fairfax Drive, Arlington, VA.

Dated: November 18, 2002.
Patricia L. Toppings,
Alternate OSD Federal Register Liaison Officer, Department of Defense.

[FR Doc. 02-30275 Filed 11-27-02; 8:45 am]

BILLING CODE 5001-08-M